DEPARTMENT OF ENERGY

Federal Energy Regulatory Commission

Combined Notice of Filings #1

Take notice that the Commission received the following electric corporate filings:

Docket Numbers: EC16-130-000.

Applicants: Nevada Power Company, Sierra Pacific Power Company, South Point Energy Center, LLC.

Description: Joint Application of Nevada Power Company, et al. for Approval Under Section 203 of the Federal Power Act.

Filed Date: 6/7/16.

Accession Number: 20160607-5230.

Comments Due: 5 p.m. ET 6/28/16.

Take notice that the Commission received the following exempt wholesale generator filings:

Docket Numbers: EG16-113-000.

Applicants: Mariah del Norte LLC.

Description: Notice of Self-Certification of Exempt Wholesale Generator Status of Mariah del Norte LLC.

Filed Date: 6/7/16.

Accession Number: 20160607-5236.

Comments Due: 5 p.m. ET 6/28/16.

Docket Numbers: EG16-114-000.

Applicants: Kingman Wind Energy I, LLC.

Description: Notification of Self-Certification of Exempt Wholesale Generator Status of Kingman Wind Energy I, LLC.

Filed Date: 6/8/16.

Accession Number: 20160608-5104.

Comments Due: 5 p.m. ET 6/29/16.

Docket Numbers: EG16-115-000.

Applicants: Kingman Wind Energy II, LLC.

Description: Notification of Self-Certification of Exempt Wholesale Generator Status of Kingman Wind Energy II, LLC.

Filed Date: 6/8/16.

Accession Number: 20160608-5106.

Comments Due: 5 p.m. ET 6/29/16.

Take notice that the Commission received the following electric rate filings:

Docket Numbers: ER16-425-002.

Applicants: New York Independent System Operator, Inc.

Description: Compliance filing: NYISO compliance effective date notification re: Scarcity Pricing to be effective 6/21/2016.

Filed Date: 6/7/16.

Accession Number: 20160607-5199.

Comments Due: 5 p.m. ET 6/28/16.

Docket Numbers: ER16-1509-001.

Applicants: New Wave Energy Corp.

Description: Tariff Amendment: Amended Market Based Rate Tariff of New Wave Energy Corporation to be effective 6/27/2016.

Filed Date: 6/8/16.

Accession Number: 20160608-5039.

Comments Due: 5 p.m. ET 6/29/16.

Docket Numbers: ER16-1894-000.

Applicants: Southern California Edison Company.

Description: Tariff Cancellation: Notices of Cancellation LGIA Alta Wind Alta Q153 & Alta Q97 Projects to be effective 8/8/2016.

Filed Date: 6/8/16.

Accession Number: 20160608-5075.

Comments Due: 5 p.m. ET 6/29/16.

Docket Numbers: ER16-1895-000.

Applicants: PJM Interconnection, L.L.C.

Description: Section 205(d) Rate Filing: First Revised Service Agreement No. 3876; Queue Position Y1-069/AA1-056 to be effective 5/10/2016.

Filed Date: 6/8/16.

Accession Number: 20160608-5131.

Comments Due: 5 p.m. ET 6/29/16.

Docket Numbers: ER16-1896-000.

Applicants: Midcontinent Independent System Operator, Inc., Ameren Illinois Company.

Description: Section 205(d) Rate Filing: 2016-06-08_SA 2922 Ameren Illinois-IMEA Mascoutah CA (Hillgard) to be effective 5/9/2016.

Filed Date: 6/8/16.

Accession Number: 20160608-5147.

Comments Due: 5 p.m. ET 6/29/16.

Take notice that the Commission received the following electric securities filings:

Docket Numbers: ES16-36-000.

Applicants: Indianapolis Power & Light Company.

Description: Application of Indianapolis Power & Light Company under Section 204 of the Federal Power Act for an Order Authorizing the Issuance of Short-Term Debt Instruments.

Filed Date: 6/7/16.

Accession Number: 20160607-5228.

Comments Due: 5 p.m. ET 6/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2016.
Nathaniel J. Davis, Sr.,
Deputy Secretary.

[FR Doc. 2016-13980 Filed 6-13-16; 8:45 am]

BILLING CODE 6717-01-P